DEPARTMENT OF THE TREASURY

Submission for OMB Review; Comment Request

March 6, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 12, 2000 to be assured of consideration.

U.S. Customs Service (CUS)

OMB Number: 1515-0046.

Form Number: Customs Form 3485.

Type of Review: Extension.

Title: Lien Notice.

Description: The Lien Notice enables the carriers, cartmen, and similar businesses to notify Customs that a lien exists against an individual/business for non-payment of freight charges, etc., so that Customs will not permit delivery of the merchandise from public stores or a bonded warehouse until the lien is satisfied or discharged.

Respondents: Business or other for-profit, Not-for-profit institutions.

Estimated Number of Respondents: 2,000.

Estimated Burden Hours Per Respondent: 5 minutes.

Frequency of Response: On occasion.

Estimated Total Reporting Burden: 8,497 hours.

OMB Number: 1515-0091.

Form Number: None.

Type of Review: Extension.

Title: Importers of Merchandise Subject to Actual Use Provisions.

Description: The Importers or Merchandise Subject to Actual Use Provision is part of the regulation which provides that certain items may be admitted duty-free such as farming implements, seed, potatoes, etc., providing the importer can prove these items were actually used as contemplated by law. The importer must maintain detailed records and furnish a statement of use.

Respondents: Business or other for-profit, Individuals or households, Not-for-profit institutions.

Estimated Number of Recordkeepers: 12,000.

Estimated Burden Hours Per Recordkeeper: 1 hour.

Frequency of Response: On occasion.

Estimated Total Recordkeeping Burden: 13,000 hours.

OMB Number: 1515-0093.

Form Number: Customs Form 300.

Type of Review: Extension.

Title: Bonded Warehouse Proprietor's Submission.

Description: Customs Form 300 is prepared by Bonded Warehouse Proprietor's submitted to the Customs Service annually. The document reflects all bonded merchandise entered, released, and manipulated, and includes beginning and ending inventories.

Respondents: Individuals or households, Business or other for-profit.

Estimated Number of Respondents: 1,800.

Estimated Burden Hours Per Respondent: 132 hours.

Frequency of Response: On occasion.

Estimated Total Reporting Burden: 36,000 hours.

OMB Number: 1515-0109.

Form Number: None.

Type of Review: Extension.

Title: Proof of Use Rates of Duty Dependent on Actual Use.

Description: The Proof of Use Rates of Duty Dependent on Actual Use declaration is needed to ensure Customs control over merchandise which is duty free. The declaration shows proof of use and must be submitted within 3 years of the date of entry or withdrawal for consumption.

Respondents: Business or other for-profit, Individuals or households, Not-for-profit institutions.

Estimated Number of Respondents: 10,500.

Estimated Burden Hours Per Respondent: 20 minutes.

Frequency of Response: On occasion.

Estimated Total Reporting Burden: 3,500 hours.

OMB Number: 1515-0135.

Form Number: None.

Type of Review: Extension.

Title: Required Records for Smelting and Refining Warehouses.

Description: Each manufacturer engaged in smelting or refining must file an annual statement showing any material change in the character of the metal-bearing materials used or changes in the method of smelting or refining. Also, the records must show the receipt and disposition of each shipment.

Respondents: Business or other for-profit, Not-for-profit institutions.

Estimated Number of Respondents: 15.

Estimated Burden Hours Per Respondent: 85 hours.

Frequency of Response: On occasion.

Estimated Total Reporting Burden: 156 hours.

OMB Number: 1515-0137.

Form Number: None.

Type of Review: Extension.

Title: Declaration of Persons Who Perform Repairs or Alterations.

Description: The Declaration of Persons Who Perform Repairs or Alterations.

Respondents: Business or other for-profit, Individuals or households, Not-for-profit institutions.

Estimated Number of Respondents: 10,236.

Estimated Burden Hours Per Respondent: 30 minutes.

Frequency of Response: On occasion.

Estimated Total Reporting Burden: 10,236 hours.

OMB Number: 1515-0154.

Form Number: Customs Form 339.

Type of Review: Extension.

Title: User Fees.

Description: The user Fees, Customs Form 339, information is necessary for Customs to effectively collect fees from private and commercial vessels, private aircraft, operators of commercial trucks, and passenger and freight railroad cars entering the United States and recipients of certain dutiable mail entries for certain official services.

Respondents: Business or other for-profit, Individuals or households, Not-for-profit institutions.

Estimated Number of Respondents: 60,000.

Estimated Burden Hours Per Respondent: 16 minutes.

Frequency of Response: On occasion.

Estimated Total Reporting Burden: 16,000 hours.

OMB Number: 1515-0163.

Form Number: None.

Type of Review: Extension.

Title: Country of Origin Marking Requirements for Containers or Holders.

Description: Containers or Holders imported into the United States destined for an ultimate purchaser must be marked with the English name of the country of origin at the time of importation into Customs territory.

Respondents: Business or other for-profit, Not-for-profit institutions.

Estimated Number of Respondents: 250.

Estimated Burden Hours Per Respondent: 15 seconds.

Frequency of Response: On occasion.

Estimated Total Reporting Burden: 41 hours.

Clearance Officer: J. Edgar Nichols (202) 927-1426, U.S. Customs Service, Printing and Records Management Branch, Ronald Reagan Building, 1300 Pennsylvania Avenue, N.W., Room 3.2.C, Washington, DC 20229.

OMB Reviewer: Alexander T. Hunt (202) 395-7860, Office of Management and Budget, Room 10202, New Executive Office Building, Washington, DC 20503.

Lois K. Holland,
Departmental Reports, Management Officer.

[FR Doc. 00-6021 Filed 3-10-00; 8:45 am]

BILLING CODE 4820-02-U